ENVIRONMENTAL PROTECTION AGENCY

[FRL-9476-4]

Good Neighbor Environmental Board; Notification of Public Advisory Committee Teleconference

AGENCY: Environmental Protection Agency (EPA).

ACTION: Notification of Public Advisory Committee Teleconference.

SUMMARY: Pursuant to the Federal Advisory Committee Act, Public Law 92-463, notice is hereby given that the Good Neighbor Environmental Board (GNEB) will hold a public teleconference on November 2, 2011 from 11 a.m. to 1 p.m. Eastern Standard Time. The meeting is open to the public. For further information regarding the teleconference and background materials, please contact Mark Joyce at the number listed below.

Background: GNEB is a Federal advisory committee chartered under the Federal Advisory Committee Act, PL 92463. GNEB provides advice and recommendations to the President and Congress on environmental and infrastructure issues along the U.S. border with Mexico.

Purpose of Meeting: The purpose of this teleconference is to discuss and approve the Good Neighbor Environmental Board's Fourteenth Report, which focuses on the potential environmental and economic benefits of renewable energy development in the U.S.-Mexico border region.

SUPPLEMENTARY INFORMATION: If you wish to make oral comments or submit written comments to the Board, please contact Mark Joyce at least five days prior to the meeting.

General Information: Additional information concerning the GNEB can be found on its Web site at http://www.epa.gov/ofacmo/gneb.

Meeting Access: For information on access or services for individuals with disabilities, please contact Mark Joyce at (202) 564-2130 or e-mail at joyce.mark@epa.gov. To request accommodation of a disability, please contact Mark Joyce at least 10 days prior to the meeting to give EPA as much time as possible to process your request.

Dated: September 30, 2011.
Mark Joyce,
Acting Designated Federal Officer.

[FR Doc. 2011-25881 Filed 10-5-11; 8:45 am]

BILLING CODE 6560-50-P